FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than January 12, 2024.

A. Federal Reserve Bank of St. Louis (Holly A. Rieser, Senior Manager) P.O. Box 442, St. Louis, Missouri 63166-2034. Comments can also be sent electronically to Comments.applications@stls.frb.org:

1. Christy Jones, Kevin Jones, and the Franklin D. & Donna L. Lewis Trust dtd 06/21/2004, Franklin D. Lewis and Donna L. Lewis as co-trustees, all of Marshfield, Missouri; Nathan Lewis, Liberty, Missouri; Thomas Lewis, Wentzville, Missouri; William R. Lewis, and Sue Ann Lewis, both of Lebanon, Missouri; as a group acting in concert, to retain voting shares of Cornerstone Bancshares, Inc., and thereby indirectly retain voting shares of Heritage Bank of the Ozarks, both of Lebanon, Missouri.

Board of Governors of the Federal Reserve System.

Michele Taylor Fennell,
Deputy Associate Secretary of the Board.

[FR Doc. 2023-28666 Filed 12-27-23; 8:45 am]

BILLING CODE P